DEPARTMENT OF JUSTICE

Notice of Lodging of Consent Decree Under the Comprehensive Environmental Response, Compensation and Liability Act

In accordance with 28 U.S.C. section 50.7 and section 122 of the Comprehensive Environmental Response, Compensation and Liability Act (“CERCLA”), 42 U.S.C. 9622, notice is hereby given that on January 13, 2004, a proposed Consent Decree in United States v. AFG Industries, Inc., et al., Civil Action No. 1:04-cv-172, was lodged with the United States District Court for the District of New Jersey.

In this action the United States, on behalf of the United States Department of the U.S. Environmental Protection Agency (“EPA”), seeks reimbursement of certain response costs incurred and to be incurred in connection with response actions at the Cinnaminson Groundwater Contamination Superfund Site (the “Site”), located in Townships of Cinnaminson and Delran, Burlington County, New Jersey. The Complaint alleges that defendants AFG Industries, Inc., Atlantic Metals Corporation, the BOC Group, Inc., Del Val Ink & Color, Inc., EPEC Polymers, Inc., Ford Motor Company, Hoeganaes Corporation, Honeywell International, Inc., L&L Redi-Mix, Inc., Sherman Wire Company, Tennessee Gas Pipeline Company, Twentieth Century Refuse Removal Co., SC Holdings, Inc., Waste Management of New Jersey, Inc., Waste Management of Pennsylvania, Inc., and Waste Management Disposal Services of Pennsylvania, Inc., are liable under section 107(a) of CERCLA, 42 U.S.C. 9607(a). Pursuant to the Consent Decree, the defendants will reimburse the plaintiff United States certain response costs incurred and to be incurred by the plaintiff in remediating the Site.

The Department of Justice will receive for a period of thirty (30) days from the date of this publication comments relating to the Consent Decree. Comments should be addressed to the Assistant Attorney General, Environment and Natural Resources Division, P.O. Box 7611, U.S. Department of Justice, Washington, D.C. 20044-7611, and should refer to United States v. AFG Industries, Inc., et al., D.J. Ref. 90-11-2-661B.

The Consent Decree may be examined at the Office of the United States Attorney for the District of New Jersey, 970 Broad Street, Room 400, Newark, New Jersey 07102, and at the offices of EPA Region II, 290 Broadway, New York, New York 10007. During the public comment period, the Consent Decree, may also be examined on the following Department of Justice Web site: http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount to $49.75 (25 cents per page reproduction cost), payable to the U.S. Treasury.

Ronald Gluck,
Assistant Section Chief, Environmental Enforcement Section, Environment and Natural Resources Division.

[FR Doc. 04-2977 Filed 2-10-04; 8:45 am]

BILLING CODE 4410-15-M